DEPARTMENT OF TRANSPORTATION

Federal Aviation Administration

14 CFR Part 39

[Docket No. 2003-NM-13-AD; Amendment 39-13817; AD 2004-20-12]

RIN 2120-AA64

Airworthiness Directives; Airbus Model A300 B2 and B4 Series Airplanes; Model A300 B4-600, A300 B4-600R, A300 F4-600R Series Airplanes, and A300 C4-605R Variant F Airplanes (Collectively Called A300-600); and Model A310 Series Airplanes

AGENCY: Federal Aviation Administration, DOT.

ACTION: Final rule.

SUMMARY: This amendment adopts a new airworthiness directive (AD), applicable to all Airbus Model A300 B2 and B4 series airplanes; Model A300 B4-600, A300 B4-600R, A300 F4-600R series airplanes, and A300 C4-605R Variant F airplanes (collectively called A300-600); and Model A310 series airplanes. This amendment requires a detailed inspection of certain pulleys and control cables in the rear fuselage for corrosion and damage; and corrective action, if necessary. This action is necessary to detect and correct frayed or corroded control cables for the elevator and rudder, which could result in a ruptured control cable, and possible reduced controllability of the airplane. This action is intended to address the identified unsafe condition.

DATES: Effective November 17, 2004.

The incorporation by reference of certain publications listed in the regulations is approved by the Director of the Federal Register as of November 17, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to all Airbus Model A300 B2 and A300 B4; Model A300 B4-600, B4-600R, C4-605R Variant F, and F4-600R (collectively called A300-600); and Model A310 series airplanes; was published in the Federal Register on May 7, 2004 (69 FR 25511). That action proposed to require a detailed inspection of certain pulleys and control cables in the rear fuselage for corrosion and damage; and corrective action, if necessary.

Comments

Interested persons have been afforded an opportunity to participate in the making of this amendment. Due consideration has been given to the single comment received.

Request To Give Credit for Actions Done Previously

One commenter requests that we revise the proposed AD to give credit for actions done previously according to the original issue of Airbus Service Bulletin A300-27A0197, including Appendix 01, dated August 8, 2002. (The proposed AD refers to Airbus Service Bulletin A300-27A0197, Revision 01, including Appendix 01, dated February 26, 2003; as the appropriate source of service information for doing the proposed actions on Model A300 B2 and A300 B4 series airplanes.) The commenter notes that the Accomplishment Instructions in Revision 01 of the service bulletin are unchanged from those in the original issue of the service bulletin.

We concur. We have reviewed the original issue of Airbus Service Bulletin A300-27A0197 and concur that the Accomplishment Instructions are the same as those in Revision 01. We have added a new paragraph (c) to this final rule (and re-identified subsequent paragraphs accordingly) to give credit for actions done per the original issue of Airbus Service Bulletin A300-27A0197.

Explanation of Additional Change

We have revised the applicability statement of this final rule to identify model designations as published in the most recent type certificate data sheet for the affected models.

Conclusion

After careful review of the available data, including the comment noted above, the FAA has determined that air safety and the public interest require the adoption of the rule with the changes described previously. The FAA has determined that these changes will neither increase the economic burden on any operator nor increase the scope of the AD.

Interim Action

We consider this AD interim action. If final action is later identified, we may consider further rulemaking then.

Cost Impact

We estimate that 174 airplanes of U.S. registry will be affected by this AD, and that it will take approximately 1 work hour per airplane to accomplish the required inspection. The average labor rate is $65 per work hour. Based on these figures, the cost impact of this AD on U.S. operators is estimated to be $11,310, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-20-12 Airbus: Amendment 39-13817. Docket 2003-NM-13-AD.

Applicability: All Model A300 B2 and B4 series airplanes; Model A300 B4-600, A300 B4-600R, A300 F4-600R series airplanes, and A300 C4-605R Variant F airplanes (collectively called A300-600); and Model A310 series airplanes; certificated in any category.

Compliance: Required as indicated, unless accomplished previously.

To detect and correct frayed or corroded control cables for the elevator and rudder, which could result in a ruptured control cable, and possible reduced controllability of the airplane, accomplish the following:

Definitions

(a) The term “service bulletin,” as used in this AD, means the Accomplishment Instructions of the following service bulletins, as applicable:

(1) For Model A300 B2 and A300 B4 series airplanes: Airbus Service Bulletin A300-27A0197, Revision 01, including Appendix 01, dated February 26, 2003;

(2) For Model A300 B4-600, A300 B4-600R, A300 F4-600R series airplanes; and A300 C4-605R Variant F airplanes (collectively called A300-600): Airbus Service Bulletin A300-27A6051, including Appendix 01, dated August 8, 2002; and

(3) For Model A310 series airplanes: Airbus Service Bulletin A310-27A2098, including Appendix 01, dated August 8, 2002.

(b) In this AD, the phrase “date of airworthiness certification” means the date of issuance of the original Airworthiness Certificate or the original Export Certificate of Airworthiness, whichever occurs first.

(c) For Model A300 B2 and A300 B4 series airplanes: Actions accomplished before the effective date of this AD according to Airbus Service Bulletin A300-27A0197, including Appendix 01, dated August 8, 2002; are acceptable for compliance with the corresponding actions required by this AD.

Inspection and Corrective Action

(d) At the applicable time in paragraph (d)(1), (d)(2), (d)(3), or (d)(4) of this AD, do a detailed inspection for corrosion and damage (e.g., frayed or broken wires) of the pulleys and cables of the rudder, elevator, trimmable horizontal stabilizer, and rudder trim control located at the rear of the fuselage; including any applicable testing and lubrication following the inspection. If any corrosion or damage is found that is outside the limits specified in the service bulletin, prior to further flight, replace the affected cable with a new cable; including any applicable testing and lubrication following the replacement. Accomplish all the actions in accordance with the applicable service bulletin.

(1) For airplanes that have accumulated, as of the effective date of this AD, less than 20,000 total flight hours and less than 10 years since the date of airworthiness certification: Inspect at the later of the times specified in paragraphs (d)(1)(i) and (d)(1)(ii) of this AD.

(i) Prior to the accumulation of 20,000 total flight hours, or within 10 years since the date of airworthiness certification, whichever occurs earliest.

(ii) Within 1,800 flight hours after the effective date of this AD.

(2) For airplanes that have accumulated, as of the effective date of this AD, either 20,000 or more total flight hours or more than 10 years since the date of airworthiness certification, but less than 25,000 total flight hours and 13 years since the date of airworthiness certification: Inspect at the later of the times specified in paragraphs (d)(2)(i) and (d)(2)(ii) of this AD.

(i) Prior to the accumulation of 25,000 total flight hours, or within 13 years since the date of airworthiness certification, whichever occurs earliest.

(ii) Within 1,800 flight hours after the effective date of this AD.

(3) For airplanes that have accumulated, as of the effective date of this AD, either 25,000 or more total flight hours or more than 13 years since the date of airworthiness certification, but less than 30,000 total flight hours and 16 years since the date of airworthiness certification: Inspect at the later of the times specified in paragraphs (d)(3)(i) and (d)(3)(ii) of this AD.

(i) Prior to the accumulation of 30,000 total flight hours, or within 16 years since the date of airworthiness certification, whichever occurs earliest.

(ii) Within 1,200 flight hours after the effective date of this AD.

(4) For airplanes that have accumulated, as of the effective date of this AD, either 30,000 or more total flight hours or more than 16 years since the date of airworthiness certification: Inspect within 600 flight hours after the effective date of this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Reporting

(e) Submit a report of the findings (both positive and negative) of the inspection required by paragraph (d) of this AD to Airbus, Customer Services Directorate, 1 Rond Point Maurice Bellonte, 31707 Blagnac Cedex, France; Attn: AI/SE-D32 Technical Data and Documentation Services, or fax: (+33) 5 61 93 28 06. Send the report at the applicable time specified in paragraph (e)(1) or (e)(2) of this AD. The Inspection Record Sheet in Appendix 01 of the applicable service bulletin may be used. Include the inspection results, a description of any discrepancy found, the airplane serial number, the number of landings and flight hours on the airplane, the service bulletin number, and the date of inspection. Under the provisions of the Paperwork Reduction Act of 1980 (44 U.S.C. 3501 et seq.), the Office of Management and Budget (OMB) has approved the information collection requirements contained in this AD and has assigned OMB Control Number 2120-0056.

(1) If the inspection is done after the effective date of this AD: Submit the report within 60 days after the inspection.

(2) If the inspection was done prior to the effective date of this AD: Submit the report within 60 days after the effective date of this AD.

Alternative Methods of Compliance

(f) In accordance with 14 CFR 39.19, the Manager, International Branch, ANM-116, FAA, Transport Airplane Directorate, is authorized to approve alternative methods of compliance for this AD.

Incorporation by Reference

(g) Unless otherwise specified in this AD, the actions must be done in accordance with Airbus Service Bulletin A300-27A0197, Revision 01, including Appendix 01, dated February 26, 2003; Airbus Service Bulletin A300-27A6051, including Appendix 01, dated August 8, 2002; and Airbus Service Bulletin A310-27A2098, including Appendix 01, dated August 8, 2002; as applicable. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 2: The subject of this AD is addressed in French airworthiness directive 2002-608(B) R1, dated January 8, 2003.

Effective Date

(h) This amendment becomes effective on November 17, 2004.

Issued in Renton, Washington, on September 29, 2004.
Kalene C. Yanamura,
Acting Manager, Transport Airplane Directorate, Aircraft Certification Service.

[FR Doc. 04-22470 Filed 10-12-04; 8:45 am]

BILLING CODE 4910-13-P